DEPARTMENT OF THE TREASURY

Office of the Comptroller of the Currency

[Docket ID OCC-2021-0015]

Mutual Savings Association Advisory Committee

AGENCY: Department of the Treasury, Office of the Comptroller of the Currency (OCC).

ACTION: Notice of Federal Advisory Committee meeting.

SUMMARY: The OCC announces a meeting of the Mutual Savings Association Advisory Committee (MSAAC).

DATES: A virtual public meeting of the MSAAC will be held on Tuesday, September 28, 2021, beginning at 8:30 a.m. Eastern Daylight Time (EDT).

ADDRESSES: The OCC will host the September 28, 2021 meeting of the MSAAC virtually.

FOR FURTHER INFORMATION CONTACT: Michael R. Brickman, Deputy Comptroller for Thrift Supervision, (202) 649-5420, Office of the Comptroller of the Currency, Washington, DC 20219. You also may access prior MSAAC meeting materials on the MSAAC page of the OCC's website at Mutual Savings Association Advisory Committee.

SUPPLEMENTARY INFORMATION: Under the authority of the Federal Advisory Committee Act, 5 U.S.C. App. 2, and the regulations implementing the Act at 41 CFR part 102-3, the OCC is announcing that the MSAAC will convene a virtual meeting on Tuesday, September 28, 2021. The meeting is open to the public and will begin at 8:30 a.m. EDT. The purpose of the meeting is for the MSAAC to advise the OCC on regulatory or other changes the OCC may make to ensure the health and viability of mutual savings associations. The agenda includes a discussion of current topics of interest to the industry.

Members of the public may submit written statements to the MSAAC. The OCC must receive written statements no later than 5:00 p.m. EDT on Thursday, September 23, 2021. Members of the public may submit written statements to MSAAC@occ.treas.gov.

Members of the public who plan to attend the virtual meeting should contact the OCC by 5:00 p.m. EDT on Thursday, September 23, 2021, to inform the OCC of their desire to attend the meeting and to obtain information about participating in the meeting. Members of the public may contact the OCC via email at MSAAC@OCC.treas.gov or by telephone at (202) 649-5420. Members of the public who are hearing impaired should call (202) 649-5597 (TTY) by 5:00 p.m. EDT on Thursday, September 23, 2021, to arrange auxiliary aids for this meeting.

Attendees should provide their full name, email address, and organization, if any.

Michael J. Hsu,
Acting Comptroller of the Currency.

[FR Doc. 2021-19055 Filed 9-2-21; 8:45 am]

BILLING CODE P